DEPARTMENT OF THE INTERIOR

Geological Survey

[GX15EB00A181100]

Agency Information Collection Activities: Request for Comments; The William T. Pecora Award Application and Nomination Process

AGENCY: U.S. Geological Survey (USGS), Interior.

ACTION: Notice of revision of a currently approved information collection, (1028-0101).

SUMMARY: We (the U.S. Geological Survey) will ask Office of Management and Budget (OMB) the information collection request (ICR) described below. To comply with the Paperwork Reduction Act of 1995 (PRA) and as part of our continuing efforts to reduce paperwork and respondent burden, we invite the general public and other Federal agencies to take this opportunity to comment on this ICR. This collection is scheduled to expire on January 31, 2015.

DATES: To ensure that your comments on this ICR are considered, we must receive them on or before January 15, 2015.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-0101 William T. Pecora Award'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-0101: William T. Pecora Award' in all correspondence.

FOR FURTHER INFORMATION CONTACT: Thomas Holm, EROS Center, U.S. Geological Survey, 47914 252nd Street, Sioux Falls, SD 57198 (mail); 605-594-6127 (phone); or holm@usgs.gov (email). You may also find information about this ICR at www.reginfo.gov.

SUPPLEMENTARY INFORMATION:

I. Abstract

The William T. Pecora Award is presented annually to individuals or groups that make outstanding contributions toward understanding the Earth by means of remote sensing. The award is sponsored jointly by the Department of the Interior (DOI) and the National Aeronautics and Space Administration (NASA).

In 1974 the Pecora Award was established in honor of Dr. William T. Pecora, former Director of the U.S. Geological Survey, Under Secretary, Department of the Interior and a motivating force behind the establishment of a program for civil remote sensing of the earth from space. The purpose of the award is to recognize individuals or groups working in the field of remote sensing of the earth. National and international nominations are accepted from the public and private sector individuals, teams, organizations, and professional societies.

Nomination packages include three sections: (A) Cover Sheet, (B) Summary Statement, and (C) Supplemental Materials. The cover sheet includes professional contact information. The Summary Statement is limited to two pages and describes the nominee's achievements in the scientific and technical remote sensing community, contributions leading to successful practical applications of remote sensing, and/or major breakthroughs in remote sensing science or technology. Nominations may include up to 10 pages of supplemental information such as resume, publications list, and/or letters of endorsement.

II. Data

OMB Control Number: 1028-0101.

Form Number: None.

Title: The William T. Pecora Award Application and Nomination Process.

Type of Request: Revision of a currently approved information collection.

Respondent Obligation: None. Participation is voluntary.

Frequency of Collection: Annually.

Description of Respondents: Individuals or households; Businesses and other academic and non-profit institutions; state and local government agencies.

Estimated Total Number of Annual Responses: 20.

Estimated Time per Response: 10 hours.

Estimated Annual Burden Hours: 200.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On 8-13-2014, we published a Federal Register notice (79 FR 47666) announcing that we would submit this ICR to OMB for approval and soliciting comments. The comment period closed on 10-13-2014. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

Frank Kelly,
Director, Earth Resources Observation and Science Center, U.S. Geological Survey.

[FR Doc. 2014-29356 Filed 12-15-14; 8:45 am]

BILLING CODE 4311-AM-P